DEPARTMENT OF JUSTICE

Antitrust Division

Notice Pursuant to the National Cooperative Research and Production Act of 1993—R Consortium, Inc.

Notice is hereby given that, on September 15, 2015, pursuant to Section 6(a) of the National Cooperative Research and Production Act of 1993, 15 U.S.C. 4301 et seq. (“the Act”), R Consortium, Inc. (“R Consortium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: TIBCO Software Inc., Palo Alto, CA; Oracle Corporation, Burlington, MA; R Foundation for Statistical Computing, Vienna, AUSTRIA; Google, Mountain View, CA; Mango Solutions, Chippenham, Wiltshire, UNITED KINGDOM; Alteryx Inc., Irvine, CA; RStudio Inc., Boston, MA; Hewlett-Packard Company, Palo Alto, CA; Ketchum Trading LLC, Chicago, IL; and Microsoft Corporation, Redmond, WA.

The general areas of R Consortium's planned activity are to: (a) Advance the worldwide promotion of and support for the R open source language and environment as the preferred language for statistical computing and graphics (the “Environment”); (b) establish, maintain, seek support for, and develop infrastructure projects and technical and infrastructure collaboration initiatives related to the Environment, and such other initiatives as may be appropriate to support, enable and promote the Environment; (c) encourage and increase user adoption, involvement with, and contribution to, the Environment; (d) facilitate communication and collaboration among users and developers of the Environment, the R Consortium and the R Foundation; (e) support and maintain policies set by the Board of Directors; and (f) undertake such other activities as may from time to time be appropriate to further the purpose and achieve the goals set forth above.

Patricia A. Brink,
Director of Civil Enforcement, Antitrust Division.

[FR Doc. 2015-25063 Filed 10-1-15; 8:45 am]

BILLING CODE P